DEPARTMENT OF AGRICULTURE

Commodity Credit Corporation

7 CFR Part 1485

Market Access Program

AGENCY: Foreign Agricultural Service and Commodity Credit Corporation, USDA.

ACTION: Correcting amendments.

SUMMARY: The U.S. Department of Agriculture published a final rule in the Federal Register on May 17, 2012 (77 FR 29474). This document corrects the final regulations by revising these sections.

DATES: Effective date: July 17, 2012.

FOR FURTHER INFORMATION CONTACT: Mark Slupek, 202-720-1169, U.S. Department of Agriculture, Foreign Agricultural Service, Office of Trade Programs, Program Operations Division; or by phone: (202) 720-4327; or by fax: (202) 720-9361; or by email: podadmin@fas.usda.gov.

SUPPLEMENTARY INFORMATION: As published, the final regulation contained an error which may prove to be misleading and need to be clarified.

List of Subjects in 7 CFR Part 1485

Agricultural commodities, Exports.

Accordingly, 7 CFR Part 1485 is corrected by making the following correcting amendment:

PART 1485—GRANT AGREEMENTS FOR THE DEVELOPMENT OF FOREIGN MARKETS FOR U.S. AGRICULTURAL COMMODITIES

1. The authority citation for 7 CFR part 1485 continues to read as follows:

Authority: 7 U.S.C. 5623, 5662-5663 and sec. 203, 402-403, Pub. L. 95-501, as amended, 92 Stat 1685 and sec. 1302, Pub. L. 103-66, 107 Stat. 330.

2. Revise the part heading for part 1485 to read as set forth above.

3. Revise paragraph (b) of § 1485.19 to read as follows:

§ 1485.19 Advances.

* * * * *

(b) Exception. A MAP Participant for generic promotion activities may request an advance of MAP funds from CCC, provided the MAP Participant meets the criteria for advance payments set forth in the applicable parts of this title (e.g., 7 CFR Parts 3015, 3016, and 3019). CCC will not approve any request for an advance submitted later than 3 months after the end of a MAP Participant's program year. At any given time, total payments advanced shall not exceed 40 percent of a MAP Participant's approved generic activity budget for the program year. CCC will not advance funds to a MAP Participant for brand promotion activities. When approving a request for an advance, CCC may require the MAP Participant to carry adequate fidelity bond coverage when the absence of such coverage is considered to create an unacceptable risk to the interests of the MAP. Whether an “unacceptable risk” exists in a particular situation will depend on a number of factors, such as, for example, the Participant's history of performance in MAP; the Participant's perceived financial stability and resources; and any other factors presented in the particular situation that may reflect on the Participant's responsibility or the riskiness of its activities.

* * * * *

Dated: June 7, 2012.
Suzanne E. Heinen,
Administrator, Foreign Agricultural Service, and Vice President, Commodity Credit Corporation.

[FR Doc. 2012-15195 Filed 7-16-12; 8:45 am]

BILLING CODE 3410-10-P